DEPARTMENT OF TRANSPORTATION

Federal Aviation Administration

14 CFR Part 39

[Docket No. FAA-2011-1408; Directorate Identifier 2008-SW-10-AD; Amendment 39-17184; AD 2012-18-08]

RIN 2120-AA64

Airworthiness Directives; Eurocopter France Helicopters

AGENCY: Federal Aviation Administration (FAA), DOT.

ACTION: Final rule.

SUMMARY: We are adopting a new airworthiness directive (AD) for Eurocopter France (Eurocopter) Model SA330F, SA330G, SA330J, AS332C, AS332L, AS332L1, and AS332L2 helicopters to require cleaning, inspecting, and lubricating each tangential gearbox (gearbox) and adjusting, as necessary, the fuel shut-off control lever. This AD was prompted by the jamming of one of two fuel shut-off control levers because of solidified grease in the gearbox. A companion gearbox had extensive corrosion. In case of an emergency, pilots may need to use the control levers to shut off fuel going into the engine and to shut off the helicopter's electrical power system. The jamming of the levers prevents the shut off of the engine fuel and prevents the parallel-mounted micro switches from switching off the electrical power system. These actions are intended to prevent the jamming of the control levers, which could prevent shut-off of the engine fuel and electrical power system during an emergency shutdown.

DATES: This AD is effective October 24, 2012.

The Director of the Federal Register approved the incorporation by reference certain documents as of October 24, 2012.

ADDRESSES: For service information identified in this AD, contact American Eurocopter Corporation, 2701 N. Forum Drive, Grand Prairie, TX 75052; telephone (972) 641-0000 or (800) 232-0323; fax (972) 641-3775; or at http://www.eurocopter.com/techpub. You may review a copy of the referenced service information at the FAA, Office of the Regional Counsel, Southwest Region, 2601 Meacham Blvd., Room 663, Fort Worth, Texas 76137.

Examining the AD Docket

You may examine the AD docket on the Internet at http://www.regulations.gov; or in person at the Docket Operations Office between 9 a.m. and 5 p.m., Monday through Friday, except Federal holidays. The AD docket contains this AD, any incorporated-by-reference service information, the economic evaluation, any comments received, and other information. The street address for the Docket Operations Office (phone: 800-647-5527) is U.S. Department of Transportation, Docket Operations Office, M-30, West Building Ground Floor, Room W12-140, 1200 New Jersey Avenue SE., Washington, DC 20590.

FOR FURTHER INFORMATION CONTACT: Eric Haight, Aviation Safety Engineer, Regulations and Policy Group, Rotorcraft Directorate, FAA, 2601 Meacham Blvd., Fort Worth, TX 76137; telephone (817) 222-5110; email eric.haight@faa.gov.

SUPPLEMENTARY INFORMATION:

Discussion

On December 28, 2011, at 76 FR 81430, the Federal Register published our notice of proposed rulemaking (NPRM), which proposed to amend 14 CFR part 39 to include an AD that would apply to Eurocopter Model SA330F, SA330G, SA330J, AS332C, AS332L, AS332L1, and AS332L2 helicopters. That NPRM proposed to require within 50 hours time-in-service (TIS) cleaning, inspecting and lubricating each gearbox, and adjusting, as necessary, the fuel shut-off control travel.

The European Aviation Safety Agency (EASA), which is the Technical Agent for the Member States of the European Union, has issued EASA Emergency AD No. 2007-0082-E, dated March 27, 2007, to correct an unsafe condition for the Eurocopter Model SA330F, SA330G, SA330J, AS332C, AS332C1, AS332L, AS332L1, and AS332L2 helicopters. EASA advises that the emergency AD was issued following two reports of jamming of one of the fuel shut-off control levers discovered during maintenance. In both cases, this jamming originates from solidified grease in the gearboxes. EASA also found corrosion in a gearbox. Jamming of a fuel shut-off control lever constitutes an unsafe condition because it prevents the shut off of engine fuel and prevents the parallel-mounted electrical micro switches, normally activated by shutting off both of the fuel shut-off control levers, from switching off the electrical power system during an emergency shut down.

Comments

We gave the public the opportunity to participate in developing this AD, but we did not receive any comments on the NPRM.

FAA's Determination

We have reviewed the relevant information and determined that an unsafe condition exists and is likely to exist or develop on other helicopters of these same type designs and that air safety and the public interest require adopting the AD requirements as proposed except we are replacing the word “travel” in the required actions paragraph with the more accurate word “lever,” and other minor editorial changes. These changes are consistent with the intent of the proposals in the NPRM and will not increase the economic burden on any operator nor increase the scope of the AD.

Differences Between This AD and the EASA AD

• We use the word “inspect” to describe the actions required by a mechanic rather than the word “check.”

• We refer to the compliance time as “hours TIS” rather than “flying hours.”

• We use a different compliance time for inspecting and lubricating the gearboxes.

• We are not including the military model helicopters or Model AS332C1 in the applicability because they are not type certificated in the United States.

• We are not requiring measuring the operating loads of the fuel shut-off controls per paragraph 1.1 of the EASA AD (paragraph 2.B.1 of the Eurocopter Alert Service Bulletin).

Related Service Information

Eurocopter has issued an Alert Service Bulletin (ASB), Revision 1, dated March 22, 2007, with three numbers (Nos. 76.00.04, 76.00.03, and 76.03). ASB No. 76.03 applies to the U.S. type-certificated Model SA330F, SA330G, and SA330J and also applies to the non-type-certificated military Model 330 helicopters. ASB No. 76.00.04 applies the U.S. type-certificated Model AS332C, AS332L, AS332L1, and AS332L2 helicopters and also applies to the non-type-certificated AS332C1 and military Model 332 helicopters. ASB No. 76.00.03 applies to the non-type-certificated military Model 532 helicopters. EASA classified this service information as mandatory and issued Emergency AD No. 2007-0082-E, dated March 27, 2007, to correct the same unsafe condition as identified in the service information.

Costs of Compliance

We estimate that this proposed AD will affect 29 helicopters of U.S. registry. We also estimate that the cost to comply with this AD is $255 per helicopter, $7,395 for the fleet, assuming three work-hours at $85 per hour to lubricate each gearbox.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on helicopters identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979);

(3) Will not affect intrastate aviation in Alaska to the extent that it justifies making a regulatory distinction; and

(4) Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2012-18-08 EUROCOPTER FRANCE: Amendment 39-17184; Docket No. FAA-2011-1408; Directorate Identifier 2008-SW-10-AD.

(a) Applicability

This AD applies to Model SA330F, SA330G, SA330J, AS332C, AS332L, AS332L1, and AS332L2 helicopters, certificated in any category.

(b) Unsafe Condition

This AD defines the unsafe condition as jamming of one of the fuel shut-off control levers because of solidified grease in a tangential gearbox (gearbox), which could prevent a pilot from the shutting off the engine fuel and prevent the parallel-mounted electrical micro switches from switching off the electrical power system during an emergency shutdown.

(c) Effective Date

This AD becomes effective October 24, 2012.

(d) Compliance

You are responsible for performing each action required by this AD within the specified compliance time unless it has already been accomplished prior to that time.

(e) Required Actions

Within 50 hours time-in-service, clean, inspect, and lubricate each gearbox and adjust, as necessary, the fuel shut-off control lever by following the Accomplishment Instructions, Paragraph 2.B.2 (reference Figures 3 through 7), of Eurocopter Alert Service Bulletin (ASB) No. 76.03, Revision 1, dated March 22, 2007, for the Model SA330F, SA330G, and SA330J helicopters, or ASB No. 76.00.04, Revision 1, dated March 22, 2007, for the Model AS332C, AS332L, AS332L1, and AS332L2 helicopters.

(f) Alternative Methods of Compliance (AMOCs)

(1) The Manager, Safety Management Group, FAA, may approve AMOCs for this AD. Send your proposal to: Eric Haight, Aviation Safety Engineer, Regulations and Policy Group, Rotorcraft Directorate, FAA, 2601 Meacham Blvd., Fort Worth, TX 76137; telephone (817) 222-5110; email eric.haight@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(g) Additional Information

The subject of this AD is addressed in the European Aviation Safety Agency Emergency AD No. 2007-0082-E, dated March 27, 2007.

(h) Subject

Joint Aircraft Service Component (JASC) Code: 7600, Engine Controls.

(i) Material Incorporated by Reference

(1) The Director of the Federal Register approved the incorporation by reference of the following service information under 5 U.S.C. 552(a) and 1 CFR part 51:

(2) You must use this service information as applicable to do the actions required by this AD, unless the AD specifies otherwise.

(i) Eurocopter ASB No. 76.00.04, Revision 1, dated March 22, 2007.

(ii) Eurocopter ASB No. 76.03, Revision 1, dated March 22, 2007.

Note 1 to paragraph (i)(2): Eurocopter Alert Service Bulletin (ASB) No. 76.00.04, Revision 1, dated March 22, 2007, and Eurocopter ASB No. 76.03, Revision 1, dated March 22, 2007, are co-published as one document along with Eurocopter ASB No. 76.00.03, Revision 1, dated March 22, 2007, which is not incorporated by reference in this AD.

(3) For Eurocopter service information identified in this AD, contact American Eurocopter Corporation, 2701 N. Forum Drive, Grand Prairie, TX 75052; telephone (972) 641-0000 or (800) 232-0323; fax (972) 641-3775; or at http://www.eurocopter.com/techpub.

(4) You may review a copy of the referenced service information at the FAA, Office of the Regional Counsel, Southwest Region, 2601 Meacham Blvd., Room 663, Fort Worth, Texas 76137.

(5) You may also review a copy of the service information that is incorporated by reference at the National Archives and Records Administration (NARA). For information on the availability of this material at NARA, call (202) 741-6030, or go to: http://www.archives.gov/federal_register/code_of_federal_regulations/ibr_locations.html

Issued in Fort Worth, Texas, on August 30, 2012.
Kim Smith,
Manager, Rotorcraft Directorate, Aircraft Certification Service.

[FR Doc. 2012-22031 Filed 9-18-12; 8:45 am]

BILLING CODE 4910-13-P